DEPARTMENT OF STATE

[Public Notice 3364]

Bureau for International Narcotics and Law Enforcement Affairs; Anti-Crime Training and Technical Assistance Program (ACTTA)

AGENCY: Office of Europe and the NIS; Bureau for International Narcotics and Law Enforcement Affairs, State.

ACTION: Notice.

SUMMARY: State Department's Bureau for International Narcotics and Law Enforcement Affairs (INL) developed the Anti-Crime Training and Technical Assistance Program (ACTTA) in 1994 to bring U.S. Federal law enforcement agencies together to provide training and technical assistance in consultation with their counterparts in Central and Eastern Europe. The goal of the program is to increase professionalism and develop the technical capabilities of law enforcement institutions to combat organized crime and promote rule of law while facilitating international law enforcement cooperation.

The ACTTA program continues to include the participation of non-Federal agencies (e.g., universities, private non-profit organizations) in the delivery of law enforcement training and technical assistance to Central and Eastern Europe. This non-Federal component of the ACTTA program has a timeframe of 2000-2002.

DATES: Strict deadlines for submission to the FY 2000 process are: Full proposals must be received at INL no later than Friday, August 18, 2000. Letters of intent are not required. We anticipate that review of full proposals will occur during August 2000. November 1, 2000 should be used as the proposed start date on proposals, unless otherwise directed by a program manager. Applicants should be notified of their status within 3 months, of submission dead line. All proposals must be submitted in accordance with the guidelines below. Failure to heed these guidelines may result in proposals being returned without review.

ADDRESSES: Proposals may be submitted to: U.S. Department of State, Bureau of International Narcotics and Law Enforcement Affairs, Navy Hill South, 2430 E Street NW., Washington, DC 20520, Attn: Linda Gower, Grants Officer.

FOR FURTHER INFORMATION CONTACT: Maren Brooks at above address, TEL: 202-776-8555, FAX: 202-776-8703, email: m.brooks@state.gov or Linda Gower at above address, TEL: 202-776-8774, FAX: 202-776-8775.

Once the RFA deadline has passed, DOS staff may not discuss this competition in any way with applicants until the proposal review process has been completed.

SUPPLEMENTARY INFORMATION:

Funding Availability

This Program Announcement is for projects to be conducted by agencies/programs outside the Federal government, over a period of up to two years. Actual funding levels will depend upon availability of funds. Current plans are for $400,000 for Slovakia to be available for the new (or renewing) ACTTA award. The funding instrument will be a grant or a cooperative agreement. Funding for non-U.S. institutions and contractual arrangements for services and products for delivery to INL are not available under this announcement. This program, though encouraged, does not require matching share. No proposal should exceed a total cost of $400,000.

Program Authority

Authority: Section 635(b) of the Foreign Assistance Act, of 1961 as amended.

Program Objectives

The ACTTA program has been designed to provide assistance to foreign governments which will complement the training and assistance provided by US Federal agencies. All training and assistance of the ACTTA program should be focused on city or local police forces.

The program objectives of the ACTTA program are: (1) Combat the growing threat to U.S. national security posed by the broad range of organized crime activities, (2) help emerging democracies strengthen their national and law enforcement institutions to counter illegal criminal activities, and (3) help emerging democracies develop laws and prosecutorial frameworks to counter organized crime activities.

Program Priorities

The primary focus of this program is Slovakia.

All training conducted under this program must utilize a “training-of-trainers” format.

The FY 2000 ACTTA Program Announcement invites training and technical assistance program proposals for community policing methods and promoting ethnic relations in Slovakia.

Eligibility

Eligibility is limited to non-Federal agencies and organizations, and is encouraged with the objective of developing a strong partnership with the state/local law enforcement community. Non-law enforcement proposers are urged to seek collaboration with state/local law enforcement institutions. Letters of support must be included in the proposal. Universities and non-profit organizations are included among entities eligible for funding under this announcement.

Evaluation Criteria

Consideration for financial assistance will be given to those proposals which address the Program Priorities identified above and meet the following evaluation criteria:

(1) Relevance (20%): Importance and relevance to the goal and objectives of the ACTTA program identified above.

(2) Methodology (25%): Adequacy of the proposed approach and activities, including development of relevant training curricula, training methods proposed, evaluation methodology, project milestones, and final products.

(3) Readiness (25%): Relevant history and experience in conducting training/technical assistance in the program priority areas identified above, strength of proposed training/technical assistance or evaluation teams, past performance record of proposers.

(4) Linkages (15%): Connections to existing law enforcement agencies in Central and Eastern European countries (especially Slovakia), letters of support, from those law enforcement agencies, in addition to previous training or related assistance experience in these countries.

(5) Costs (15%): Adequacy/efficiency of the proposed resources and a percentage of cost sharing.

Selection Procedures

All proposals will be evaluated and ranked in accordance with the assigned weights of the above evaluation criteria by independent peer panel review composed of INL and other Federal USG agency law enforcement experts. The program managers will consider the panel's recommendations and evaluations in the final selection. Those ranked by the panel and program as not recommended for funding will not be given further consideration and will be notified of non-selection. For the proposal rated for possible funding, the program managers will: (a) Ascertain which proposals meet the objectives, fit the criteria posted, and do not duplicate other projects that are currently funded by INL, other USG agencies or foreign governments, or international (Note: proposals or elements that duplicate existing activities of USG agencies will not receive award. end note); (b) select the proposal to be funded; (c) determine the total duration of funding for the proposal.

Unsatisfactory performance by a recipient under prior Federal awards may result in an application not being considered for funding.

Proposal Submission

The guidelines for proposal preparation provided below are mandatory. Failure to heed these guidelines may result in proposals being returned without review.

(a) Full Proposals

(1) Proposals submitted to INL must include the original and three unbound copies of the proposal.

(2) Applicants are encouraged to submit sufficient proposal copies for the full review process if they wish all reviewers to receive color, unusually sized (not 8.5 x 11″), or otherwise unusual materials submitted as part of the proposal. Only three copies of the Federally required forms are needed.

(3) Program descriptions must be limited to 20 pages (numbered), not including budget, personnel vitae, letters of support and all appendices, and should be limited to funding requests for one to two year duration. Federally mandated forms are not included within the page count.

(4) Proposals should be sent to INL at the above address.

(5) Facsimile transmissions of full proposals will not be accepted.

(b) Required Elements

(1) Signed title page: The title page should be signed by the Project Director (PD) and the institutional representative and should clearly indicate which program priority or priorities are being addressed. The PD and institutional representative should be identified by full name, title, organization, telephone number and address. The total amount of Federal funds being requested should be listed for each budget period. A budget period is normally two years.

(2) Abstract: An abstract must be included and should contain an introduction of the problem, rationale and a brief summary of work to be completed. The abstract should appear as a separate page, headed with the proposal title, institution(s) name, investigator(s), total proposed cost and budget period.

(3) Prior training experience: A summary of prior law enforcement training experience should be described, including training related to program priorities identified above and/or conducted in Central and Eastern Europe, especially Slovakia. Reference to each prior training award should include the title, agency, award number, period of award and total award. The section should be a brief summary and should not exceed two pages total.

(4) Statement of work: The proposed project must be completely described, including identification of the problem, project objectives, proposed training methodology, relevance to the goal and objectives of the ACTTA program, and the program priority listed above. Benefits of the proposed project to U.S. law enforcement efforts should be discussed. A year-by-year summary of proposed work must be included clearly indicating that each year's proposed work is severable and can easily be separated into annual increments of meaningful work. Statement of work, including and excluding figures and other visual materials, must not exceed 20 pages of length.

(5) Budget: Applicants must submit a Standard form 424 (4-92) “Application for Federal Assistance,” including a detailed budget using the Standard Form 424a (4-92), “Budget Information—Non-Construction Programs.” Forms are available on the Internet. Go to whitehouse.gov/omb/grants, click on forms. The proposal must include total and annual budgets corresponding with the descriptions provided in the statement of work. Budget text must be included to justify expenses. Additional text should include salaries and benefits by each proposed staff person; direct costs such as travel (airfare, per diem, miscellaneous travel costs); equipment; supplies; contractual, and indirect costs. Indicate if indirect rates are DCAA or other Federal agency approved or proposed rates and provide a copy of the current rate agreement. In addition, furnish the same level of information regarding subgrantee costs, if applicable, and submit a copy of your most recent A-110 audit report. Consultant fees should not exceed $250 per day.

(6) Vitae: Abbreviated curriculum vitae are sought with each proposal. Vitae for each project staff person should not exceed three pages in length.

(c) Other Requirements

Primary Applicant Certification—All primary applicants must submit a completed Form CD-511, “Certification Regarding Debarment, Suspension and Other Responsibility Matters; Drug-Free Workplace Requirements and Lobbying.” Applicants are also hereby notified of the following:

1. Non procurement Department and Suspension—Prospective participants (as defined at 15 CFR part 26, section 105) are subject to 15 CFR part 26, “Non procurement Debarment and Suspension,” and the related section of the certification form prescribed above applies;

2. Drug Free Workplace—Grantees (as defined at 15 CFR part 26, section 605) are subject to 15 CFR part 26, subpart F, “Government wide Requirements for Drug-Free Workplace (Grants)” and the related section of the certification form prescribed above applies;

3. Anti-Lobbying—Persons (as defined at 15 CFR part 28, section 105) are subject to the lobbying provisions of 31 U.S.C. 1352, “Limitation on use of appropriated funds to influence certain Federal contracting and financial transactions,” and the lobbying section of the certification form prescribed above applies to applications/bids for grants of more than $100,000; and

4. Anti-Lobbying Disclosures—Any applicant that has paid or will pay for lobbying using any funds must submit SF-LLL, “Disclosure of Lobbying Activities,” as required under 15 CFR part 28, appendix B.

Lower Tier Certifications

(1) Recipients must require applicants/bidders for sub-grants or lower tier covered transactions at any tier under the award to submit, if applicable, a completed Form CD-512, “Certifications Regarding Debarment, Suspension, Ineligibility and Voluntary Exclusion—Lower Tier Covered Transactions and Lobbying” and disclosure Form SF-LLL, “Disclosure of Lobbying Activities.” Form CD-512 is intended for the use of recipients and should not be transmitted to Department of State (DOS). SF-LLL submitted by any tier recipient or sub-recipient should be submitted to DOS in accordance with the instructions contained in the award document.

(2) Recipients and sub-recipients are subject to all applicable Federal laws and Federal and Department of State policies, regulations, and procedures applicable to Federal financial assistance awards.

(3) Pre-award Activities—If applicants incur any costs prior to an award being made, they do so solely at their own risk of not being reimbursed by the Government. Notwithstanding any verbal assurance that may have been received, there is no obligation to the applicant on the part of Department of State to cover pre-award costs.

(4) This program is subject to the requirements of OMB Circular No. A-110, “Uniform Administrative Requirements for Grants and Other Agreements with Institutions of Higher Education, Hospitals, and Other Non-Profit Organizations,” OMB Circular No. A-133, “Audits of Institutions of Higher Education and Other Non-Profit Institutions,” and 15 CFR Part 24, “Uniform Administrative Requirements for Grants and Cooperative Agreements to State and Local Governments,” as applicable. Applications under this program are not subject to Executive Order 12372, “Intergovernmental Review of Federal Programs.”

(5) All non-profit applicants are subject to a name check review process. Name checks are intended to reveal if any key individuals associate with the applicant have been convicted of, or are presently facing criminal charges such as fraud, theft, perjury, or other matters which significantly reflect on the applicant's management, honesty, or financial integrity.

(6) A false statement on an application is grounds for denial or termination of funds and grounds for possible punishment by a fine or imprisonment as provided in 18 U.S.C. 1001.

(7) No award of Federal funds shall be made to an applicant who has an outstanding delinquent Federal debt until either:

(i) The delinquent account is paid in full,

(ii) a negotiated repayment schedule is established and at least one payment is received, or

(iii) other arrangements satisfactory to the Department of State are made.

(8) Buy American-Made Equipment or Products—Applicants are reminded that any equipment or products authorized to be purchased with funding provided under this program must be American-made to the maximum extent feasible.

(9) The total dollar amount of the indirect costs proposed in an application under this program must not exceed the indirect cost rate negotiated and approved by a cognizant Federal agency prior to the proposed effective date of the award or 100 percent of the total proposed direct cost dollar amount in the application, whichever is less.

(d) If an application is selected for funding, the Department of State has no obligation to provide any additional future funding in connection with the award. Renewal of an award to increase funding or extend the period of performance is at the total discretion of the Department of State.

(e) In accordance with Federal statutes and regulations, no person on grounds of race, color, age, sex, national origin or disability shall be excluded from participation in, denied benefits of or be subjected to discrimination under any program or activity receiving assistance from the INL ACTTA program.

Notwithstanding any other provision of law, no person is required to respond to nor shall a person be subject to a penalty for failure to comply with a collection of information subject to the requirements of the Paperwork Reduction Act unless that collection of information displays a current valid OMB control number. The standard forms have been approved by the Office of Management and Budget pursuant to the Paperwork Reduction Act under OMB approval number 0348-0043, 0348-0044, and 0348-0046.

Classification: This notice has been determined to be not significant for purposes of Executive Order 12866.

Dated: July 6, 2000.
Jo Ann Moore,
Coordinator, Office of Europe and New Independent States,, Bureau for International Narcotics and Law Enforcement Affairs, U.S. Department of State.

Dated: July 12, 2000.
Jo Ann Moore,
Coordinator, Office of Europe and New Independent States, Bureau for International Narcotics and Law Enforcement, U.S. Department of State.

[FR Doc. 00-18122 Filed 7-19-00; 8:45 am]

BILLING CODE 4710-17-P